DEPARTMENT OF THE INTERIOR

Bureau of Land Management

(WO-220-01-1020-JA-VEIS)

Notice of Extension of Public Comment Period and Schedule of Public Scoping Meetings for the Environmental Impact Statement for the Conservation and Restoration of Vegetation, Watershed, and Wildlife Habitat Treatments on Public Lands Administered by the Bureau of Land Management in the Western United States, Including Alaska

AGENCY: Bureau of Land Management, Interior.

ACTION: Notice of extension of public comment period for scoping; and dates and locations for public scoping meetings.

SUMMARY: Pursuant to section 102 (2) (C) of the National Environmental Policy Act of 1969 (NEPA), the BLM will prepare a national, programmatic EIS and conduct public scoping meetings on (1) management opportunities and treatment methods for noxious weeds and other invasive species, and (2) the conservation and restoration of native vegetation, watersheds, and wildlife habitat. The EIS will cover the public lands administered by BLM in 16 western states, including Alaska. The period for initial scoping comments from the public has been extended to March 29, 2002.

DATES: Written or e-mailed comments for the initial scoping phase may be submitted through March 29, 2002. BLM will hold public scoping meetings to focus on relevant issues and environmental concerns, identify possible alternatives, and help determine the scope of the EIS.

Dates and locations for the scoping meetings are as follows:

Date and time | Locations | BLM contact
January 8, 5-8 p.m | Utah Dept. of Natural Resources Bldg. 1594 W. North Temple, Salt Lake City, UT | Verlin Smith (801) 539-4055.
January 10, 3-6 p.m | Western Wyoming Community College, Room 1003, 2500 College Drive, Rock Springs, WY | Lance Porter (307) 352-0252.
January 14, 6-9 p.m | Holiday Inn Express—Neptune Room, 1100 North California, Socorro, NM | Margie Onstad (505) 838-1256.
January 16, 3-5 p.m. and 6-9 p.m | Holiday Inn Crown Plaza, 2532 W. Peoria Avenue, Phoenix, AZ | Deborah Stevens (602) 417-9215.
January 22, 6-9 p.m | BLM Office Conference Room, 345 E. Riverside Drive, St. George, UT | Kim Leany (435) 688-3208.
January 24, 2-5 p.m. and 6-9 p.m | Grand Vista Hotel, 2790 Crossroads Blvd, Grand Junction, CO | Harley Metz (970) 244-3076.
January 29, 4-7 p.m | Miles Community College—Room 106, 2715 Dickinson, Miles City, MT | Jody Weil (406) 896-5258.
January 31, 4-7 p.m | Elks Lodge 604 Coburn Avenue, Worland, WY | Janine Terry (307) 347-5194.
February 5, 5-8 p.m | Sacred Heart Parish Hall, 507 East 4th Street, Alturas, CA | Jennifer Purvine (530) 233-7932.
February 11, 5-8 p.m | U.S. Forest Service, Helena National Forest Headquarters, 2880 Skyway Drive, Helena, MT (across from airport) | Jody Weil (406) 896-5258.
February 13, 6-9 p.m | Vista Inn, 2645 Airport Way Boise, ID | Barry Rose (208) 373-4014.
February 14, 6-9 p.m | College of Southern Idaho, 315 Falls Ave, Shields Bldg, Room 117, Twin Falls, ID | Eddie Guerrero (208) 736-2355.
February 19, 4-7 p.m | BLM-Nevada State Office, 1340 Financial Blvd., Reno, NV | JoLynn Worley (775) 861-6515.
February 21, 2-5 p.m. and 6-9 p.m | Hilton Garden Inn, 3650 East Idaho Street, Elko, NV | Mike Brown (775) 753-0200.
February 26, 5-8 p.m | Holiday Inn Select, 801 Truxton Ave,Bakersfield, CA | Stephen Larson (661) 391-6099.
February 28, 6-9 p.m | Valley Library, 12004 East Main, Spokane, WA | Kathy Helm (509) 536-1252.
March 4, 6-9 p.m | Days Inn City Center, 1414 SW 6th Portland, OR | Chris Strebig (503) 952-6003.
March 6, 3-6 p.m | Anchorage Field Office—BLM, 6881 Abbott Loop Road, Anchorage, AK | Gene Terland (907) 271-3344.
March 12, 9 a.m.-12 noon | Washington Plaza Hotel, Franklin Room, 10 Thomas Circle (Massachusetts and 14th Street), Washington, D.C. | Sharon Wilson (202) 452-5130.

ADDRESSES: For further information, to provide written comments, or to be placed on the mailing list, contact Brian Amme, Acting Project Manager, Bureau of Land Management, P.O. Box 12000, Reno, Nevada 89520-0006; E-mail brian_amme@nv.blm.gov; telephone (775) 861-6645. Comments will be available for public inspection at the BLM Nevada State Office, 1340 Financial Blvd.; Reno, Nevada 89502.

Individual respondents may request confidentiality. If you wish your name and/or address withheld from public review or disclosure under the Freedom of Information Act, you must state this prominently at the beginning of your written or e-mailed comment. Such requests will be honored to the extent allowed by law. All submissions from organizations or businesses, and from individuals identifying themselves as representatives or officials of organizations or businesses, will be available for public inspection in their entirety.

SUPPLEMENTARY INFORMATION: This national, programmatic EIS will provide a comprehensive cumulative analysis of BLM conservation and restoration treatments involving vegetation communities, watersheds and wildlife habitats.

• It will also consider state-specific, reasonably foreseeable activities, including hazardous fuels reduction treatments.

• It will address human health risk assessments for proposed use of new chemicals on public lands.

• Restoration activities may include but are not limited to prescribed fire, riparian restoration, native plant community restoration, invasive plants and noxious weeds treatments, understory thinning, forest health treatments, or other activities related to restoring fire-adapted ecosystems.

The EIS is not a land-use plan or a land-use plan amendment. It will provide a comprehensive programmatic NEPA document to allow effective tiering and serve as a baseline cumulative impact assessment for other new, revised or existing land use and activity level plans that involve vegetation, wildlife habitat and watershed treatment, modification or maintenance.

• This EIS will consolidate four existing BLM vegetation treatment EISs developed in compliance with the NEPA between 1986 and 1992 into one programmatic document for the western United States, including Alaska. The EIS will update information and change to reflect new information and changed conditions on public lands since that time.

• An updated EIS is necessary for BLM to analyze proposed treatments of 4 to 5 million acres of prescribed and managed natural fire, Integrated Weed Management, hazardous fuels reduction, Emergency Stabilization and Restoration, and landscape-level restoration initiatives such as Great Basin Restoration Initiative. Current average annual acres of treatment selected in the existing BLM records of decision (RODS) equate to about 350,000 acres.

• The analysis area includes only surface estate public lands administered by 11 BLM state offices: Alaska, Arizona, California, Eastern States, Idaho, Montana (Dakotas), New Mexico (Oklahoma/Texas/Nebraska), Nevada, Oregon (Washington), Utah and Wyoming.

The BLM has initially identified the following issues for analysis in this programmatic EIS: hazardous fuels reduction and treatment including mechanical treatments, wildlife habitat improvement, restoration of ecosystem processes; protection of cultural resources, watershed and vegetative community health, new listings of threatened and endangered species and consideration of other sensitive and special status species, new chemical formulations for herbicides deemed to be more environmentally favorable, smoke management and air quality, emergency stabilization and restoration, and watershed and water quality improvement.

Dated: December 10, 2001.
Henri Bisson,
Assistant Director, Renewable Resources and Planning.

[FR Doc. 01-32232 Filed 12-31-01; 8:45 am]

BILLING CODE 4310-84-P